DEPARTMENT OF ENERGY

Federal Energy Regulatory Commission

Combined Notice of Filings #1

June 22, 2010.

Take notice that the Commission received the following electric rate filings:

Docket Numbers: ER00-2129-004; ER09-1110-003; ER09-1111-002; ER09-1116-002.

Applicants: Orion Power Midwest, L.P.; RRI Energy Florida, LLC; RRI Energy Mid-Atlantic Power Holdings, Inc.; RRI Energy Wholesale Generation, LLC.

Description: Orion Power Midwest, LP et al. submits filing demonstrating that they are Category 1 Sellers under section 35.36.

Filed Date: 06/21/2010.

Accession Number: 20100622-0201.

Comment Date: 5 p.m. e.t. on Monday, July 12, 2010.

Docket Numbers: ER09-1114-004; ER10-1323-001.

Applicants: RRI Energy Services, Inc., RRI Energy West, Inc.

Description: Triennial Report of the RRI Southwest MBR Companies.

Filed Date: 06/21/2010.

Accession Number: 20100621-5196.

Comment Date: 5 p.m. e.t. on Friday, August 20, 2010.

Docket Numbers: ER09-412-001.

Applicants: PJM Interconnection L.L.C.

Description: PJM Interconnection, LLC submits revisions to the PJM Open Access Transmission Tariff in compliance with the Commission's May 20, 2010 order in the proceeding.

Filed Date: 06/21/2010.

Accession Number: 20100622-0203.

Comment Date: 5 p.m. e.t. on Monday, July 12, 2010.

Docket Numbers: ER10-549-001.

Applicants: PJM Interconnection, L.L.C.

Description: PJM Interconnection, LLC submits compliance filing in order to clarify the inclusion of certain baseline upgrades as reliability project in the PJM Regional Expansion Plan.

Filed Date: 06/22/2010.

Accession Number: 20100622-0204.

Comment Date: 5 p.m. e.t. on Tuesday, July 13, 2010.

Docket Numbers: ER10-1466-000.

Applicants: Community Power & Utilities.

Description: Community Power & Utility submits petition for acceptance of initial tariff, waivers and Blanket Authority.

Filed Date: 06/17/2010.

Accession Number: 20100616-0220.

Comment Date: 5 p.m. e.t. on Thursday, July 08, 2010.

Docket Numbers: ER10-1509-000.

Applicants: Louisville Gas and Electric Company.

Description: Louisville Gas and Electric Company submits tariff filing per 35.12: LGEKU Baseline Transmission to be effective 7/18/2010.

Filed Date: 06/21/2010.

Accession Number: 20100621-5137.

Comment Date: 5 p.m. e.t. on Monday, July 12, 2010.

Docket Numbers: ER10-1510-000.

Applicants: Kentucky Utilities Company

Description: Kentucky Utilities Company submits tariff filing per 35.12: KU Transmission Baseline Concurrence to be effective 7/18/2010.

Filed Date: 06/21/2010.

Accession Number: 20100621-5147.

Comment Date: 5 p.m. e.t. on Monday, July 12, 2010.

Docket Numbers: ER10-1511-000.

Applicants: Louisville Gas and Electric Company.

Description: Louisville Gas and Electric Company submits tariff filing per 35.12: Energy Marketing Baseline to be effective 7/18/2010.

Filed Date: 06/22/2010.

Accession Number: 20100622-5000.

Comment Date: 5 p.m. e.t. on Tuesday, July 13, 2010.

Docket Numbers: ER10-1512-000.

Applicants: Kentucky Utilities Company.

Description: Kentucky Utilities Company submits tariff filing per 35.12: KU Energy Marketing Concurrence Baseline to be effective 7/18/2010.

Filed Date: 06/22/2010.

Accession Number: 20100622-5004.

Comment Date: 5 p.m. e.t. on Tuesday, July 13, 2010.

Docket Numbers: ER10-1513-000.

Applicants: Wolverine Power Supply Cooperative, Inc.

Description: Wolverine Power Supply Cooperative, Inc. submits tariff filing per 35.12: Initial Baseline Market Based Rate Tariff Filing to be effective 6/22/2010.

Filed Date: 06/22/2010.

Accession Number: 20100622-5017.

Comment Date: 5 p.m. e.t. on Tuesday, July 13, 2010.

Docket Numbers: ER10-1514-000.

Applicants: CPV Keenan II Renewable Energy Company.

Description: CPV Keenan II Renewable Energy Company, LLC submits tariff filing per 35.12: Initial Baseline Market Based Rate Tariff Filing to be effective 6/22/2010.

Filed Date: 06/22/2010.

Accession Number: 20100622-5018.

Comment Date: 5 p.m. e.t. on Tuesday, July 13, 2010.

Docket Numbers: ER10-1515-000.

Applicants: CPV Liberty, LLC.

Description: CPV Liberty, LLC submits tariff filing per 35.12: Initial Baseline Market Based Rate Tariff Filing to be effective 6/22/2010.

Filed Date: 06/22/2010.

Accession Number: 20100622-5020.

Comment Date: 5 p.m. e.t. on Tuesday, July 13, 2010.

Docket Numbers: ER10-1516-000.

Applicants: CPV Milford, LLC.

Description: CPV Milford, LLC submits tariff filing per 35.12: Initial Baseline Market Based Rate Tariff Filing to be effective 6/22/2010.

Filed Date: 06/22/2010.

Accession Number: 20100622-5021.

Comment Date: 5 p.m. e.t. on Tuesday, July 13, 2010.

Docket Numbers: ER10-1518-000.

Applicants: Milford Power Company, LLC.

Description: Milford Power Company, LLC submits tariff filing per 35.12: Initial Baseline Market Based Rate Tariff Filing to be effective 6/22/2010.

Filed Date: 06/22/2010.

Accession Number: 20100622-5031.

Comment Date: 5 p.m. e.t. on Tuesday, July 13, 2010.

Docket Numbers: ER10-1519-000.

Applicants: Liberty Electric Power, LLC.

Description: Liberty Electric Power, LLC submits tariff filing per 35.12: Initial Baseline Market Based Rate Tariff Filing to be effective 6/22/2010.

Filed Date: 06/22/2010.

Accession Number: 20100622-5032.

Comment Date: 5 p.m. e.t. on Tuesday, July 13, 2010.

Docket Numbers: ER10-1520-000.

Applicants: Occidental Power Services, Inc.

Description: Occidental Power Services, Inc. submits tariff filing per 35.12: Baseline Tariff Filing to be effective 6/22/2010.

Filed Date: 06/22/2010.

Accession Number: 20100622-5040.

Comment Date: 5 p.m. e.t. on Tuesday, July 13, 2010.

Docket Numbers: ER10-1521-000.

Applicants: Occidental Power Marketing, L.P.

Description: Occidental Power Marketing, L.P. submits tariff filing per 35.12: Baseline Tariff Filing to be effective 6/22/2010.

Filed Date: 06/22/2010.

Accession Number: 20100622-5042.

Comment Date: 5 p.m. e.t. on Tuesday, July 13, 2010.

Any person desiring to intervene or to protest in any of the above proceedings must file in accordance with rules 211 and 214 of the Commission's rules of practice and procedure (18 CFR 385.211 and 385.214) on or before 5 p.m. e.t. on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-15740 Filed 6-28-10; 8:45 am]

BILLING CODE 6717-01-P